DEPARTMENT OF COMMERCE

International Trade Administration

[A-570-170]

Disposable Aluminum Containers, Pans, Trays, and Lids From the People's Republic of China: Final Affirmative Determination of Sales at Less Than Fair Value and Final Affirmative Determination of Critical Circumstances

AGENCY: Enforcement and Compliance, International Trade Administration, Department of Commerce.

SUMMARY: The U.S. Department of Commerce (Commerce) determines that disposable aluminum containers, pans, trays, and lids (disposable aluminum containers) from the People's Republic of China (China) are being, or are likely to be, sold in the United States at less than fair value (LTFV). The period of investigation (POI) is October 1, 2023, through March 31, 2024.

DATES: Applicable March 11, 2025.

FOR FURTHER INFORMATION CONTACT: Matthew Palmer or Kate Fracke, AD/CVD Operations, Office III, Enforcement and Compliance, International Trade Administration, U.S. Department of Commerce, 1401 Constitution Avenue NW, Washington, DC 20230; telephone: (202) 482-1678 or (202) 482-3299, respectively.

SUPPLEMENTARY INFORMATION:

Background

On December 30, 2024, Commerce published in the Federal Register its preliminary determination in the LTFV investigation of disposable aluminum containers from China.¹ Commerce invited interested parties to comment on the Preliminary Determination.

¹ See Disposable Aluminum Containers, Pans, Trays, and Lids from the People's Republic of China: Preliminary Affirmative Determination of Sales at Less Than Fair Value and Preliminary Determination of Critical Circumstances, 89 FR 106433 (December 30, 2024) (Preliminary Determination), and accompanying Preliminary Decision Memorandum (PDM).

For a complete description of the events that followed the Preliminary Determination, see the Issues and Decision Memorandum.² The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

² See Memorandum, “Issues and Decision Memorandum for the Final Affirmative Determination in the Less-Than-Fair-Value Investigation of Disposable Aluminum Containers, Pans, Trays, and Lids from the People's Republic of China,” dated concurrently with, and hereby adopted by, this notice (Issues and Decision Memorandum).

Scope of the Investigation

The products covered by this investigation are disposable aluminum containers from China. For a complete description of the scope of this investigation, see Appendix I.

Scope Comments

In accordance with the Preamble to Commerce's regulations,³ the Initiation Notice set aside a period of time for parties to raise issues regarding product coverage (i.e., scope).⁴ No interested party commented on the scope of the investigation as it appeared in the Initiation Notice. Therefore, we did not make any changes to the scope of this investigation from the scope published in the Preliminary Determination, as noted in Appendix I.

³ See Antidumping Duties; Countervailing Duties, Final Rule, 62 FR 27296, 27323 (May 19, 1997) (Preamble).

⁴ See Disposable Aluminum Containers, Pans, Trays, and Lids from the People's Republic of China: Initiation of Less-Than-Fair-Value Investigation, 89 FR 49837, 49838 (June 12, 2024) (Initiation Notice).

Analysis of Comments Received

All issues raised in case and rebuttal briefs are discussed in the Issues and Decision Memorandum. A list of the issues raised in the Issues and Decision Memorandum is attached as Appendix II of this notice. Commerce has made no substantive changes from the Preliminary Determination.⁵

⁵ The Preliminary Determination contained a misspelling of the name of a Chinese exporter of the subject merchandise. See Preliminary Determination, 89 FR at 106434. We have corrected the misspelling to identify the correct exporter name, Yuyao Rhea Aluminum Foil Products Co., Ltd., in the Final Determination section, infra.

Final Affirmative Determination of Critical Circumstances

In accordance with sections 735(a)(3)(B), and 776(a) and (b) of the Tariff Act of 1930, as amended (the Act), and 19 CFR 351.206, as well as our analysis of comments received regarding our affirmative preliminary determination of critical circumstances,⁶ Commerce continues to find that critical circumstances exist with respect to imports of disposable aluminum containers from China for the China-wide entity. For a full description of the methodology and results of Commerce's critical circumstances analysis, see the Preliminary Determination and the Issues and Decision Memorandum.⁷

⁶ See Heritage Group LLC's Letter, “Administrative Case Brief on Behalf of Heritage Group LLC concerning Critical Circumstances,” dated January 29, 2025; see also Petitioners' Letter, “Petitioners' Rebuttal Case Brief,” dated February 3, 2025.

⁷ See Preliminary Determination PDM at 19-23; and Issues and Decision Memorandum at Comment 1.

China-Wide Entity and Use of Adverse Facts Available (AFA)

In this final determination, consistent with the Preliminary Determination,⁸ Commerce continues to find that the use of facts otherwise available, with adverse inferences, is warranted in determining the dumping rate for the China-wide entity, pursuant to sections 776(a) and (b) of the Act. There is no new information on the record that would cause us to reconsider our decision in the Preliminary Determination. Thus, we made no changes to our analysis or to the China-wide entity's dumping margin for the final determination. For a full description of the methodology underlying Commerce's final determination, see the Issues and Decision Memorandum.

⁸ See Preliminary Determination PDM at 4-9.

Separate Rates

We have granted a separate rate to certain separate rate respondents that we did not select for individual examination.⁹ In calculating the rate for non-individually examined separate rate respondents in a non-market economy LTFV investigation, Commerce normally looks to section 735(c)(5)(A) of the Act, which pertains to the calculation of the all-others rate in a market economy LTFV investigation, for guidance. Pursuant to section 735(c)(5)(A) of the Act, normally this rate shall be an amount equal to the weighted average of the estimated weighted-average dumping margins established for those companies individually-examined, excluding any dumping margins that are zero, de minimis, or based entirely under section 776 of the Act.

⁹ See Preliminary Determination PDM.

Because each company selected for individual examination in this investigation subsequently notified Commerce of its withdrawal from participation, their estimated weighted-average dumping margins are based entirely under section 776 of the Act. In investigations where no estimated weighted-average dumping margins other than zero, de minimis, or those determined entirely under section 776 of the Act have been established for individually-examined entities, in accordance with section 735(c)(5)(B) of the Act, Commerce typically calculates a simple average of the margins alleged in the petition and applies the results to the entities not individually examined but found eligible for a separate rate.¹⁰ In this investigation, the simple average of the rates in the Petition is 193.90 percent.¹¹ See the table below in the “Final Determination” section of this notice.

¹⁰ See, e.g., Certain Pea Protein from the People's Republic of China: Final Affirmative Determination of Sales at Less Than Fair Value and Final Affirmative Critical Circumstances Determination, 89 FR 55559 (July 5, 2024).

¹¹ See Petitioners' Letter, “Antidumping Duty Petition Volume II China,” dated May 16, 2024 (Petition), at Exhibit AD-CN-5.

Combination Rates

In the Initiation Notice,¹² Commerce stated that it would calculate producer/exporter combination rates for the respondents that are eligible for a separate rate in this investigation. Policy Bulletin 05.1 describes this practice.¹³ In this investigation, we calculated producer/exporter combination rates for respondents eligible for separate rates.

¹² See Initiation Notice, 89 FR at 49841.

¹³ See Enforcement and Compliance's Policy Bulletin No. 05.1, regarding, “Separate-Rates Practice and Application of Combination Rates in Antidumping Investigations involving Non-Market Economy Countries,” (April 5, 2005) (Policy Bulletin 05.1), available on Commerce's website at https://access.trade.gov/Resources/policy/bull05-1.pdf.

Final Determination

Commerce determines that the following estimated weighted-average dumping margin exists for the period, October 1, 2023, through March 31, 2024:

Producer | Exporter | Estimated weighted-average dumping margin (percent)
Foshan Bossfoil Aluminum Products Co., Ltd | Aikou Packaging Co., Ltd | 193.90
Guangzhou Huafeng Aluminum Foil Technologies Co. Ltd | Guangzhou Huafeng Aluminum Foil Technologies Co. Ltd | 193.90
Guangzhou Vanzhen Aluminum Foil Products Co., Ltd | Guangzhou Vanzhen Aluminum Foil Products Co., Ltd | 193.90
Henan Mingwei Aluminum Products Co., Ltd | Henan Mingwei Aluminum Products Co., Ltd | 193.90
Jinhua Majestic Aluminum Packing Co., Ltd | Jinhua Majestic Aluminum Packing Co., Ltd | 193.90
Ningbo Laxwell Aluminum Foil Technology Co., Ltd | Ningbo Laxwell Aluminum Foil Technology Co., Ltd | 193.90
Ningbo Mylife Aluminium Foil Products Co., Ltd | Ningbo Mylife Aluminium Foil Products Co., Ltd | 193.90
Ningbo Reco Packing Technology Co., Ltd | Ningbo Reco Packing Technology Co., Ltd | 193.90
Ningbo Times Aluminium Foil Technology Corp., Ltd | Ningbo Times Aluminium Foil Technology Corp., Ltd | 193.90
Ningbo Uber Aluminum Foil Products Co., Ltd | Ningbo Uber Aluminum Foil Products Co., Ltd | 193.90
Ningbo Wonderfoil Aluminium Foil Technology Co., Ltd | Ningbo Wonderfoil Aluminium Foil Technology Co., Ltd | 193.90
Ningbo Wonderfoil Aluminium Foil Technology Co., Ltd | Qingdao Honsun Packaging Technology Co., Ltd | 193.90
Qingdao Wohler Aluminium Environmental Technology Co, Ltd | Qingdao Wohler Aluminium Environmental Technology Co, Ltd | 193.90
DongTai Subcompany of Shanghai Dragon Aluminium Foil Products Co., Ltd | DongTai Subcompany of Shanghai Dragon Aluminium Foil Products Co., Ltd | 193.90
Suzhou Spk Aluminium Foil Co., Ltd | Suzhou Spk Aluminium Foil Co., Ltd | 193.90
Nantong Hongtu Health Technology Co., Ltd | Uniriver Industries Co., Ltd | 193.90
Wohler (Qingdao) Co., Ltd | Wohler (Qingdao) Co., Ltd | 193.90
Yuyao Rhea Aluminum Foil Products Co., Ltd | Yuyao Rhea Aluminum Foil Products Co., Ltd | 193.90
Yuyao Smallcap Household Products Co., Ltd | Yuyao Smallcap Household Products Co., Ltd | 193.90
Zhangjiagang Auto Well Co., Ltd | Zhangjiagang Kangyuan International Trading Co., Ltd | 193.90
Jiangsu Greensource Health Aluminum Foil Technology Co., Ltd | Zhangjiagang Kangyuan International Trading Co., Ltd | 193.90
Zhejiang Zhongjin Aluminum Industry Co., Ltd | Zhejiang Zhongjin Aluminum Industry Co., Ltd | 193.90
Henan Vino Aluminium Foil Co., Ltd | Zhengzhou Eming Aluminium Industry Co., Ltd | 193.90
China-wide Entity | * 287.80
* Rate based on facts available with adverse inferences.

Continuation of Suspension of Liquidation

In accordance with 735(c)(4)(A) of the Act, because we continue to find that critical circumstances exist, Commerce will instruct U.S. Customs and Border Protection (CBP) to continue to suspend liquidation of all entries of subject merchandise, as described in Appendix I of this notice, which were entered, or withdrawn from warehouse, for consumption on or after October 1, 2024, which is 90 days before the date of publication of the Preliminary Determination in the Federal Register. These suspension of liquidation instructions will remain in effect until further notice.

Pursuant to section 735(c)(1)(B)(ii) of the Act and 19 CFR 351.210(d), upon the publication of this notice, we will instruct CBP to require a cash deposit for estimated antidumping duties for appropriate entries.

Commerce will instruct CBP to require the following cash deposits of estimated antidumping duties for all appropriate entries: (1) for the producer/exporter combinations listed in the table above, the applicable cash deposit rate is listed in the table for that combination; (2) for all combinations of Chinese producers/exporters of the merchandise under consideration that have not established eligibility for a separate rate, the cash deposit rate will be equal to the cash deposit rate listed for the China-wide entity in the table above; and (3) for all third-country exporters of the merchandise under consideration that are not listed in the table above, the cash deposit rate is the cash deposit rate applicable to the Chinese producer/exporter combination or the China-wide entity that supplied that third-country exporter. These suspension of liquidation instructions will remain in effect until further notice.

Disclosure

Normally, Commerce discloses to interested parties the calculations performed in connection with a final determination within five days of its public announcement or, if there is no public announcement, within five days of the date of publication of this notice in accordance with 19 CFR 351.224(b). However, because Commerce applied AFA to the mandatory respondents in this investigation in accordance with section 776 of the Act, and the applied AFA rate is based solely on the Petition, and the rate assigned to the separate rate companies was a simple average of the Petition rates, there are no calculations to disclose.

U.S. International Trade Commission (ITC) Notification

In accordance with section 735(d) of the Act, Commerce will notify the ITC of its final affirmative determination of sales at LTFV. Because the final determination in this investigation is affirmative, in accordance with section 735(b)(2) of the Act, the ITC will make its final determination as to whether the domestic industry in the United States is materially injured or threatened with material injury by reason of imports of aluminum containers from China no later than 45 days after our final determination. If the ITC determines that such injury does not exist, this proceeding will be terminated, and all cash deposits posted will be refunded. If the ITC determines that such injury does exist, Commerce will issue an antidumping duty order directing CBP to assess, upon further instruction by Commerce, antidumping duties on all imports of the subject merchandise entered or withdrawn from warehouse for consumption on or after the effective date of the suspension of liquidation, as discussed in the “Continuation of Suspension of Liquidation” section.

Administrative Protective Order (APO)

In the event that the ITC issues a final negative injury determination, this notice will serve as the only reminder to parties subject to an APO of their responsibility concerning the disposition of proprietary information disclosed under APO in accordance with 19 CFR 351.305(a)(3). Timely written notification of the return or destruction of APO materials or conversion to judicial protective order is hereby requested. Failure to comply with the regulations and terms of an APO is a violation subject to sanction.

Notification to Interested Parties

This determination is issued and published in accordance with sections 735(d) and 777(i)(1) of the Act, and 19 CFR 351.210(c).

Dated: March 4, 2025.
Christopher Abbott,
Deputy Assistant Secretary for Policy and Negotiations, performing the non-exclusive functions and duties of the Assistant Secretary for Enforcement and Compliance.

Appendix I—Scope of the Investigation

The merchandise covered by this investigation is disposable aluminum containers, pans, trays, and lids produced primarily from flat-rolled aluminum. The subject merchandise includes disposable aluminum containers, pans, trays, and lids regardless of shape or size and whether or not wrinkled or smooth.

The term “disposable” is used to identify an aluminum article that is designed to be used once, or for a limited number of times, and then recycled or otherwise disposed.

“Containers, pans, and trays” are receptacles for holding goods.

The subject disposable aluminum lids are intended to be used in combination with disposable containers produced from aluminum or other materials (e.g., paper or plastic). Where a disposable aluminum lid is imported with a non-aluminum container, only the disposable aluminum lid is included in the scope.

Disposable aluminum containers, pans, trays, and lids are also included within the scope regardless of whether the surface has been embossed, printed, coated (including with a non-stick substance), or decorated, and regardless of the style of the edges. The inclusion of a non-aluminum lid or dome sold or packaged with an otherwise in-scope article does not remove the article from the scope, however, only the disposable aluminum container, pan, tray, and lid is covered by the scope definition.

Disposable aluminum containers, pans, trays, and lids are typically used in food-related applications, including but not limited to food preparation, packaging, baking, barbequing, reheating, takeout, or storage, but also have other uses. Regardless of end use, disposable aluminum containers, pans, trays, and lids that meet the scope definition and are not otherwise excluded are subject merchandise.

Excluded from the scope are disposable aluminum casks, drums, cans, boxes and similar containers (including disposable aluminum cups and bottles) properly classified under Harmonized Tariff Schedule of the United States (HTSUS) subheading 7612.90. However, aluminum containers, pans, trays, and lids that would otherwise be covered by the scope are not excluded based solely on the fact that they are being classified under HTSUS subheading 7612.90.5000 due to the thickness of aluminum being less than 0.04 mm or greater than 0.22 mm.

The flat-rolled aluminum used to produce the subject articles may be made to ASTM specifications ASTM B479 or ASTM B209-14, but can also be made to other specifications. Regardless of the specification, however, all disposable aluminum containers, pans, trays, and lids meeting the scope description are included in the scope.

Disposable aluminum containers, pans, trays, and lids are currently classifiable under HTSUS subheading 7615.10.7125. Further, merchandise that falls within the scope of this proceeding may also be entered into the United States under HTSUS subheadings 7612.90.1090, 7615.10.3015, 7615.10.3025, 7615.10.7130, 7615.10.7155, 7615.10.7180, 7615.10.9100, and 8309.90.0000. Although the HTSUS subheadings are provided for convenience and customs purposes, the written description of the scope of this proceeding is dispositive.

Appendix II—List of Topics Discussed in the Issues and Decision Memorandum

I. Summary

II. Background

III. Changes Since the Preliminary Determination

IV. Discussion of the Issue

Comment: Whether Commerce's Affirmative Critical Circumstances Determination Methodology Lawfully Applied Adverse Facts Available

V. Recommendation

[FR Doc. 2025-03833 Filed 3-10-25; 8:45 am]

BILLING CODE 3510-DS-P